ENVIRONMENTAL PROTECTION AGENCY

40 CFR Part 300

[EPA-HQ-SFUND-2003-0010; FRL-9981-26—Region 5]

National Oil and Hazardous Substances Pollution Contingency Plan; National Priorities List: Partial Deletion of the Peters Cartridge Factory Superfund Site

AGENCY: Environmental Protection Agency (EPA).

ACTION: Direct final rule.

SUMMARY: The Environmental Protection Agency (EPA) Region 5 is publishing a direct final Notice of Partial Deletion of the Former Process Area (FPA) portion of the Peters Cartridge Factory Superfund Site in Kings Mills, Ohio from the National Priorities List (NPL). The NPL, promulgated pursuant to Section 105 of the Comprehensive Environmental Response, Compensation, and Liability Act (CERCLA) of 1980, as amended, is an appendix of the National Oil and Hazardous Substances Pollution Contingency Plan (NCP). This direct final Notice of Partial Deletion is being published by EPA with the concurrence of the State of Ohio, through the Ohio Environmental Protection Agency (OEPA), because EPA has determined that all appropriate response actions in the FPA under CERCLA, other than maintenance, monitoring and five-year reviews, have been completed. However, this partial deletion does not preclude future actions under Superfund.

DATES: This direct final partial deletion is effective September 25, 2018 unless EPA receives adverse comments by August 27, 2018. If adverse comments are received, EPA will publish a timely withdrawal of the direct final partial deletion in the Federal Register (FR) informing the public that the partial deletion will not take effect.

ADDRESSES: Submit your comments, identified by Docket ID No. EPA-HQ-SFUND-2003-0010 at https://www.regulations.gov. Follow the online instructions for submitting comments. Comments may also be submitted by email or mail to Randolph Cano, NPL Deletion Coordinator, U.S. Environmental Protection Agency Region 5 (SR-6J), 77 West Jackson Boulevard, Chicago, IL 60604, Phone: (312) 886-6036, email address: cano.randolph@epa.gov or hand deliver: Superfund Records Center, U.S. Environmental Protection Agency, Region 5, 77 West Jackson Boulevard, 7th Floor South, Chicago, IL 60604, Phone: (312) 886-0900. Such deliveries are only accepted during the Docket's normal hours of operation, and special arrangements should be made for deliveries of boxed information. The normal business hours are Monday through Friday, 8 a.m. to 4 p.m., excluding Federal holidays.

Instructions: Direct your comments to Docket ID No. EPA-HQ-SFUND-2003-0010. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov website is an “anonymous access” system, which means EPA will not know your identity or contact information unless you provide it in the body of your comment. If you send an email comment directly to EPA without going through http://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in hard copy. Publicly available docket materials are available either electronically at http://www.regulations.gov or electronically or in hard copy at:

U.S. Environmental Protection Agency, Region 5, Superfund Records Center, 77 West Jackson Boulevard, 7th Floor South, Chicago, IL 60604, Phone: (312) 886-0900, Hours: Monday through Friday, 8 a.m. to 4 p.m., excluding Federal holidays.

Salem Township Library, 535 West Pike Street, Morrow, OH 45152, Phone: (513) 899-2588. Hours: Monday and Tuesday, 10:00 a.m. to 8:00 p.m. Wednesday and Thursday, 10:00 a.m. to 6:00 p.m. Friday, 10:00 a.m. to 5:00 p.m. Saturday, 10:00 a.m. to 2:00 p.m.

Warren County Administration Building, 406 Justice Drive, Lebanon, OH 45036, Phone: (513) 695-1000. Hours: Monday through Friday 8:00 a.m. to 5:00 p.m.

FOR FURTHER INFORMATION CONTACT: Randolph Cano, NPL Deletion Coordinator, U.S. Environmental Protection Agency, Region 5 (SR-6J), 77 West Jackson Boulevard, Chicago, IL 60604, Phone: (312) 886-6036, or via email at cano.randolph@epa.gov.

SUPPLEMENTARY INFORMATION:

Table of Contents

I. Introduction

II. NPL Deletion Criteria

III. Partial Deletion Procedures

IV. Basis for Site Partial Deletion

V. Partial Deletion Action

I. Introduction

EPA Region 5 is publishing this direct final Notice of Partial Deletion for the Peters Cartridge Factory Site (Peters Cartridge Site), from the National Priorities List (NPL). This partial deletion pertains to the Former Process Area (FPA) portion of the Site, property identification numbers (PINs) 16-12-453-004, 16-12-453-005 and 16-12-400-012. The NPL constitutes Appendix B of the NCP, which EPA promulgated pursuant to CERCLA. EPA maintains the NPL as the list of sites that appear to present a significant risk to public health, welfare, or the environment. Sites on the NPL may be the subject of remedial actions (RA) financed by the Hazardous Substance Superfund (Fund). This partial deletion of the Peters Cartridge Site is proposed in accordance with 40 CFR 300.425(e) and is consistent with the Notice of Policy Change: Partial Deletion of Sites Listed on the National Priorities List. 60 FR 55466 (Nov. 1, 1995). As described in section 300.425(e)(3) of the NCP, a portion of a site deleted from the NPL remains eligible for Fund-financed RAs if future conditions warrant such actions.

Section II of this document explains the criteria for deleting sites from the NPL. Section III discusses procedures that EPA is using for this action. Section IV discusses the FPA of the Peters Cartridge Site and demonstrates how it meets the deletion criteria. Section V discusses EPA's action to partially delete the FPA from the NPL unless adverse comments are received during the public comment period.

II. NPL Deletion Criteria

The NCP establishes the criteria that EPA uses to delete sites from the NPL. In accordance with 40 CFR 300.425(e), sites, or portions thereof, may be deleted from the NPL where no further response is appropriate. In making such a determination pursuant to 40 CFR 300.425(e), EPA will consider, in consultation with the state, whether any of the following criteria have been met:

i. Responsible parties or other persons have implemented all appropriate response actions required;

ii. all appropriate Fund-financed response under CERCLA has been implemented, and no further response action by responsible parties is appropriate; or

iii. the remedial investigation (RI) has shown that the release poses no significant threat to public health or the environment and, therefore, the taking of remedial measures is not appropriate.

Pursuant to Section 121(c) of CERCLA, 42 U.S.C. 9621 and the NCP, EPA conducts five-year reviews to ensure the continued protectiveness of RAs where hazardous substances, pollutants, or contaminants remain at a site above levels that allow for unlimited use and unrestricted exposure. EPA conducts such five-year reviews even if a site or a portion of a site is deleted from the NPL. EPA may initiate further action to ensure continued protectiveness at a deleted site if new information becomes available that indicates it is appropriate. Whenever there is a significant release from a site deleted from the NPL, the deleted site may be restored to the NPL without application of the hazard ranking system.

III. Partial Deletion Procedures

The following procedures apply to the deletion of the FPA of the Peters Cartridge Site:

(1) EPA has consulted with the State of Ohio prior to developing this direct final Notice of Partial Deletion and the Notice of Intent for Partial Deletion co-published in the “Proposed Rules” section of the FR.

(2) EPA has provided the State 30 working days for review of this notice and the parallel Notice of Intent for Partial Deletion prior to their publication today, and the State, through the OEPA, has concurred on the partial deletion of the Site from the NPL.

(3) Concurrent with the publication of this direct final Notice of Partial Deletion, an announcement of the availability of the parallel Notice of Intent for Partial Deletion is being published in a major local newspaper, The Cincinnati Enquirer. The newspaper notice announces the 30-day public comment period concerning the Notice of Intent for Partial Deletion of the Site from the NPL.

(4) EPA placed copies of documents supporting the partial deletion in the deletion docket and made these items available for public inspection and copying at the Site information repositories identified above.

(5) If adverse comments are received within the 30-calendar day public comment period on this partial deletion action, EPA will publish a timely notice of withdrawal of this direct final Notice of Partial Deletion before its effective date and will prepare a response to comments and continue with the deletion process on the basis of the Notice of Intent for Partial Deletion and the comments already received.

Deletion of a portion of a site from the NPL does not itself create, alter, or revoke any individual's rights or obligations. Deletion of a portion of a site from the NPL does not in any way alter EPA's right to take enforcement actions, as appropriate. The NPL is designed primarily for informational purposes and to assist EPA management. Section 300.425(e)(3) of the NCP states that the deletion of a site from the NPL does not preclude eligibility for further response actions, should future conditions warrant such actions.

IV. Basis for Site Partial Deletion

The following information provides EPA's rationale for deleting the FPA of the Peters Cartridge Site from the NPL:

Site Background and History

The Peters Cartridge Site (CERCLIS ID: OHD 987051083) is an approximately 71-acre parcel of land located along the south bank of the Little Miami River, in Warren County, Ohio. The Peters Cartridge Site is located at 1415 Grandin Road, Kings Mills, 45034, Hamilton Township, Ohio. Approximately one acre of the Site is located east of Grandin Road.

The Peters Cartridge Factory produced ordnance and shot shell ammunition at the Site from 1887 to 1934. The Remington Arms Company, Inc. (Remington) purchased the Peters Cartridge Factory in 1934 and continued the production of shot shell and cartridge ammunition at the facility. During the Second World War, Remington produced .30 and .45-caliber carbine ammunition for the U.S. Government, until 1944, after which Remington discontinued operations at the facility.

The Peters Cartridge Site was subsequently divided into multiple land parcels that have been owned and occupied by various non-ammunition making entities since 1944. None of these companies are responsible for the contamination that is being addressed at the Site.

OEPA noted the release of possible hazardous substances at the Site in 1992. OEPA conducted a preliminary assessment in 1993 and brought the Site to the attention of EPA. OEPA conducted several screening investigations and evaluations at the Site between 1994 and 1999. During these investigations, OEPA collected soil, sediment, and groundwater samples. OEPA analyzed the samples for volatile organic compounds, semivolatile organic compounds (SVOCs), pesticides, and metals.

OEPA's investigations concluded that the Site was impacted by copper, lead, and mercury. These metals are associated with the former munitions manufacturing operations. The impacts appeared to be generally confined to surface soils in the former manufacturing and storage areas in the FPA. OEPA detected some SVOCs and pesticides in sediment samples from the Little Miami River, but these compounds were not found in soil or sediment samples from the Site and are not Site-related.

EPA proposed the Peters Cartridge Site to the NPL on April 30, 2003 (68 FR 23094). EPA finalized the Peters Cartridge Site on the NPL on September 18, 2012 after negotiations with potentially responsible parties (PRPs) to implement the cleanup remedy in EPA's 2009 Record of Decision (ROD) for the Site failed (77 FR 57495). The effective date of the final rule was October 18, 2012.

The Peters Cartridge Site is a single operable unit consisting of three areas: The FPA, which is the portion of the Site EPA is deleting from the NPL, and the Hamilton Township Property (HTP) and Lowland Area (LA) which are not being deleted and will remain on the NPL.

The FPA is the production portion of the Site where most of the Peters Cartridge manufacturing processes took place. The FPA is comprised of three parcels of developed land that total 14.29 acres and contain six buildings.

Most of the FPA is relatively flat and covered by buildings, concrete or asphalt paving, and small landscaped areas. Discontinuous areas of ash-like fill were present around the buildings. Portions of the FPA are used by commercial or industrial businesses.

The HTP is a 56-acre parcel of unimproved wooded land south and southwest of the FPA. The HTP was primarily used to store the finished munitions manufactured at the Site. The HTP consists of steeply-sloping bedrock ridges and rolling topography with dense vegetation. The HTP contains bunkers, concrete supports, foundations, conveyance structures, and other facilities historically used by the Peters Cartridge Company.

The HTP contains a former salvage area in the northwestern portion of the property that is unpaved and is surrounded by a steel fence and mature woody and herbaceous vegetation. The former salvage area features buildings original to the former salvage yard and also contains discontinuous areas of ash-like fill. Hamilton Township plans to retain the HTP as open space.

The LA is located at the northern edge of the Site within the Little Miami River floodplain. The LA is differentiated from the rest of the Site by steel fencing, thick vegetation, and steep topography along the southern border of the Little Miami River Scenic Trail. The trail was a historical railroad right-of-way that was redeveloped as a bike and walking path.

North of the trail, the LA includes some historical manufacturing areas characterized by the presence of ash-like fill, concrete foundations, masonry structures, and concrete culverts/outfalls that drain surface water from the upland portions of the Site. Future land use in the LA is expected to remain recreational/open space.

This partial deletion pertains to all media within the FPA portion of the Peters Cartridge Site (see Current Site Layout in Docket Document ID EPA-HQ-SFUND-2003-0010-1954 in the Docket). The remaining areas of the Site, including the HTP and LA, will remain on the NPL and are not being considered for deletion as part of this action.

Remedial Investigation (RI) and Feasibility Study (FS)

The PRPs conducted a remedial investigation (RI) and feasibility study (FS) at the Site under a 2004 Administrative Order on Consent with EPA. The RI investigated the contamination at the Site and the FS evaluated potential cleanup alternatives to address the unacceptable Site risks identified in the human health and ecological risk assessments.

The PRPs conducted the RI in multiple phases from 2005 to 2009. The PRPs collected surface (zero to two feet below ground surface) and subsurface (greater than two feet below ground surface) soil samples from 112 soil boring locations in the FPA, 199 soil borings in the HTP, and 69 soil borings in the LA. The PRPs also collected samples of surface swale-soil from 29 locations in the HTP area, sediment samples from seven on-Site locations near the discharge points of the on-Site drainage features near the Little Miami River, 22 surface water sampling locations, and groundwater samples from eleven groundwater monitoring wells. The PRPs did not collect swale-soil samples from the FPA or LA because swale-soil was not present in these areas.

The results of the PRPs' human health risk assessment indicate that surface soil in the FPA posed an unacceptable risk to current commercial/industrial workers, utility workers and trespassers, and to future construction workers and residents. The risks were due to the concentrations of arsenic, benzo(a)pyrene, naphthalene and lead detected in the surface soil. The surface soil in the HTP posed an unacceptable risk to current trespassers and utility workers, and to future construction workers, residents and recreational users in the HTP. These risks were due to arsenic, benz(a)pyrene, lead and antimony detected in the HTP. The concentrations of lead in the LA surface soil posed an unacceptable risk to current utility workers, and to recreational users in off-trail areas.

The risk assessment determined that shallow, on-Site groundwater would pose an unacceptable cancer risk to potential future residents if the groundwater was used as a residential water supply. This risk is due to arsenic detected in the groundwater, but at concentrations below the Maximum Contaminant Level (MCL) for arsenic established under the Safe Drinking Water Act.

The current potential for human exposure to on-Site groundwater is limited, since the Site is used for commercial and industrial purposes and on-Site groundwater is not used for potable or any other uses, including irrigation. Potable water at the Site is currently supplied by the Warren County Water District. The groundwater is also at a depth where direct contact during intrusive activities is unlikely to occur.

The PRPs' ecological risk assessment indicated that surface soil in the terrestrial habits at the Site posed an unacceptable risk to ecological receptors. The risks were due to the concentrations of antimony, arsenic, cadmium, copper, lead, mercury, nickel, selenium, thallium and zinc detected at the Site. The ecological risk assessment also identified potential ecological risks at the Site based on exposure to erosional material and surface water in the concrete-lined culverts at the Site, and to sediment and surface water in culvert outfalls along the shoreline of the Little Miami River.

OEPA conducted additional studies of the Little Miami River in 1999 and 2007. These studies indicated that Site-related contaminants were not impacting ecological receptors in the River. On-Site drainage features, however, had the potential to transport Site-related contaminants to surface water and river sediment.

The PRPs completed an FS in 2009. The FS developed and evaluated four cleanup alternatives to address the unacceptable risks at the Site. The FS evaluated soil remediation technologies to clean up the surface soil/swale contaminants in the FPA, HTP and LA, and in the upper six inches of shoreline sediment at culvert outfalls.

The FS determined that focusing the cleanup on the lead-impacted soil at the Site would result in the remediation of the other contaminants detected at the Site since the primary Site risk was due to exposure to lead-impacted soil. The FS also assumed that institutional controls (ICs) would be used to prevent residential land use and groundwater use at the Site.

Selected Remedy

EPA developed remedial action objectives (RAOs) to address the unacceptable risks to human health and the environment identified for exposure to on-Site soil/swale contaminants, the shoreline sediments in the Little Miami River, and groundwater.

EPA's RAOs for on-Site soil are to: Prevent human exposure to surface/swale soil having chemical concentrations resulting in a cumulative excess lifetime cancer risk greater than 1 × 10⁻⁴ or a non-cancer hazard index greater than 1; prevent human exposure to surface and subsurface soil with lead concentrations greater than EPA's residential standard (i.e., 400 mg/kg) or, if an IC restricts residential development, prevent human exposure to surface/swale soil with lead concentrations greater than EPA's commercial standard (i.e., 800 mg/kg); and prevent ecological receptor exposures to on-Site surface soil/swale soil with copper, lead, and mercury concentrations creating unacceptable levels of risk.

EPA's RAO for shoreline sediments is to prevent the exposure of aquatic receptors to contaminants of ecological concern in the Little Miami River by limiting the migration of Site-related contaminants in depositional material in the channelized outfalls and deltas bordering the river. This will be done by removing on-Site sources that contribute to elevated concentrations in the surface water discharged from the site.

EPA's RAO for groundwater is to prevent future residents from ingesting groundwater having an arsenic concentration that exceeds its MCL. This will be done as a limited RA using ICs to restrict groundwater use at the Site.

EPA selected a cleanup remedy for the Site in a Record of Decision (ROD) on September 28, 2009. The major components of the selected remedy detailed in the ROD are:

(1) Excavate surface soil in the FPA to a depth of at least two feet below ground surface (bgs) in areas that exceed the EPA commercial standard for lead of 800 milligrams per kilogram (mg/kg), and excavate surface soil in the HTP and LA to a depth of at least two feet bgs in areas that exceed the EPA residential standard for lead of 400 mg/kg. The actual areas to be excavated and depths will be determined and evaluated during the Remedial Design (RD). The excavated areas will be backfilled with clean fill material to the existing grade.

(2) Clean out and remove debris and erosional material at drainage culvert and outfall areas. Excavate three identified shoreline sediment areas to a depth of approximately six inches and backfill the shoreline sediment areas with clean fill material.

(3) Consolidate impacted soil, sediment, and erosional material in an on-Site consolidation cell. The cell will be constructed with an impermeable composite liner and cap system developed to be consistent with State regulations. A flexible membrane liner with a geotextile cushion will be installed as the main component of the cell liner system.

(4) Cap the consolidation cell with a composite cap system consisting of a six-inch-thick vegetative support layer, a two-foot-thick layer of compacted low-permeability clay, a geocomposite drainage layer, a flexible geomembrane, and a low-permeability clay layer beneath the geomembrane. The final cap design will be developed to be compliant with State regulations during the RD phase of the project. During the RD phase it will be determined whether an access restriction will be required based on future use of the area.

(5) Monitor groundwater to ensure that there is no migration of contaminants from the consolidation cell.

(6) ICs in the form of deed restrictions will be required to accomplish the following: Restrict land use to nonresidential purposes; limit future Site activities to prevent intrusive activities that could compromise the consolidation cell; and restrict on-Site groundwater from being used as a residential water supply.

(7) A review will be conducted within five years after the initiation of the RA and every five years thereafter to ensure that the selected remedy is still protective of human health and the environment, and will include a determination of whether land use changes have occurred or are likely to occur.

EPA issued a Unilateral Administrative Order to the lead PRP for the Site, E.I. du Pont de Nemours and Company (DuPont), to conduct the RD and RA work required by the ROD on March 30, 2012, after negotiations with DuPont and the other PRPs failed. DuPont conducted a Pre-Design Investigation (PDI) in 2012-2013. During the PDI, DuPont further delineated the extent of soil with lead concentrations above cleanup standards that would require excavation.

DuPont's PDI found that approximately 10,300 cubic yards of soil within the excavation areas outlined in the ROD was characteristically hazardous for lead based on the results of toxicity characteristic leaching procedure (TCLP) testing. The PDI also found that some of the characteristically hazardous lead-contaminated soil was located in some areas of the Site at depths greater than two feet bgs.

EPA issued an Explanation of Significant Differences (ESD) modifying the ROD based on the PDI in June 2015. The modified remedy required the excavation of all characteristically hazardous soils at the Site, regardless of depth. All soils with concentrations of lead considered to be characteristic hazardous waste were required to be stabilized to render them nonhazardous before being placed in the on-Site consolidation cell. Based on the PDI, the deepest excavation was estimated to be four feet bgs.

The ESD also made it clear that an Institutional Control Implementation and Assurance Plan (ICIAP) was required as part of the selected remedy. The ESD also explained EPA and OEPA's determination that a 2.0 percent final slope for the composite cap system over the on-Site consolidation cell was acceptable and provided a waiver of the 5.0 percent final slope requirements in Ohio Administrative Code 3745-29-08(C)(4)(c).

Response Actions

DuPont's contractor, Parsons, began RA construction activities at the Site in March 2015. Parsons excavated surface soil in the FPA with lead concentrations above EPA's commercial cleanup level for lead of 800 mg/kg from a depth of zero to two feet bgs; and surface/swale soil in the HTP and LA with concentrations above EPA's residential cleanup level for lead of 400 mg/kg from a depth of zero to two feet bgs.

Parsons additionally excavated all surface/swale and subsurface soil in the FPA, HTP and LA that exceeded EPA's hazardous waste TCLP concentration for lead of 5.0 milligrams/liter (mg/l), regardless of depth (zero to four feet).

Parsons consolidated the excavated soil in an on-Site consolidation cell Parsons constructed in the HTP at the southern end of the Site. Parsons treated the soil with TCLP concentrations above EPA's hazardous waste criteria with a proprietary in-situ stabilizing mixture that rendered the material nonhazardous prior to excavation and consolidation in the on-Site cell.

The excavated areas included: Most of the area sampled adjacent to and between the buildings in the FPA, and isolated areas on hill slopes behind the buildings; the HTP adjacent to the western portion of the FPA and LA; three small, isolated areas in the HTP upland areas; most of the portion of the LA between the Little Miami River Scenic Trail and the FPA; and isolated areas in the LA in the floodplain terrace along the Little Miami River and adjacent to Grandin Road. Four areas within the FPA and LA required excavation to four feet bgs to remove soil exceeding the regulatory level for TCLP lead.

Parsons backfilled the excavated areas with clean soil covered by six inches of clean topsoil to existing grade.

Parsons excavated the sediments from the on-Site drainage channels, concrete culverts and outfalls and consolidated these materials in the consolidation cell with the excavated soil. Parsons excavated and disposed of trash located in one area of the Site, including hazardous and nonhazardous soil and a small amount of asbestos-containing material, at appropriate off-Site disposal facilities.

The consolidation cell has a vegetated surface with a stone access road across the top of cap. The road provides access to the leachate sump and monitoring wells located on the north side of the cell.

Parsons submitted a Construction Completion Report documenting the completion of the RA construction activities to EPA and OEPA on June 7, 2017. EPA issued a letter approving DuPont's Construction Completion Report on June 26, 2017.

Cleanup Levels

The cleanup levels for the Site are: EPA's commercial cleanup level for lead of 800 mg/kg for surface soil in the FPA; EPA's residential cleanup level for lead of 400 mg/kg for surface soil in the HTP and LA; and EPA's TCLP hazardous waste leaching criteria of 5 mg/l for lead in all soil, regardless of depth. The ROD also requires groundwater use restrictions for on-Site groundwater with arsenic concentrations above the MCL of 10 micrograms/liter, and the excavation of debris and erosional material in on-Site culverts and outfalls, and of shoreline sediment in the Little Miami River.

Parsons determined the limits of the soil and sediment excavations, and the limits of soil stabilization required to meet the cleanup criteria in the ROD and ESD during the RD based on the results of the PDI. Parsons verified that all impacted soil was excavated to required limits by conducting surveys of the excavated areas before and after excavation for a point-by-point comparison. Parsons confirmed that all hazardous soil was properly treated prior to excavation by testing the stabilized soil in each grid for TCLP lead, arsenic, and mercury to confirm the soil was nonhazardous. All post-treatment samples passed the TCLP values for these compounds prior to excavation and consolidation in the on-Site cell except for one area which required a second round of treatment.

Parsons, EPA and OEPA verified that the sediment, debris and eroded materials were removed from the on-Site culverts, outfalls and the river shoreline through visual inspections conducted prior to and during an August 16, 2016 pre-final Site inspection.

Operation and Maintenance

DuPont is responsible for conducting operation and maintenance (O&M) at the Peters Cartridge Site consistent with a January 2017 O&M and ICIAP. The only O&M required for the FPA is to maintain, monitor and enforce the ROD-required IC, which is in the form of an Environmental Covenant (EC), and to conduct groundwater sampling, as needed.

The current owner of the FPA, Peters Cartridge Factory, LLC (PCF), filed the EC required by the ROD pursuant to Ohio Revised Code §§ 5301.80 to 5301.92, on the FPA portion of the Peters Cartridge Site. PCF filed the EC with the Warren County Recorder's Office on January 30, 2018, Instrument 2018-003019. A copy of the recorded EC is in Docket Document ID EPA-HQ-SFUND-2003-0010-1942 in the Docket.

PCF's EC: (1) Restricts land use in the FPA to commercial and/or industrial use, and prohibits residential use of the property unless and until additional cleanup activities are performed and the EC is amended or terminated; (2) prohibits the extraction or use of groundwater beneath the FPA for any purpose, potable or otherwise, unless approved by EPA and for the purposes of investigation, monitoring, groundwater remediation or for a response activity; and (3) requires all excavation, digging, grading or disturbance of the ground surface in the FPA to be conducted in accordance with the September 2017 Soil Management Plan developed for the Site.

Five-Year Reviews

EPA is required to conduct statutory five-year reviews at the Peters Cartridge Site because hazardous substances, pollutants, or contaminants remain at the Site above levels that allow for unlimited use and unrestricted exposure. EPA must complete the first five-year review of the Site by December 12, 2019.

Community Involvement

EPA satisfied public participation activities for the Peters Cartridge Site required in Sections 113(k) and 117 of CERCLA, 42 U.S.C. 9613(k) and 9617. EPA developed a Community Involvement Plan for the Site in 2009. EPA made the RI/FS Report and Proposed Plan for the Site available to the public in June 2009. EPA placed copies of the RI/FS Report and Proposed Plan in the administrative record file maintained at the EPA Region 5 Records Center in Chicago, Illinois, and in the local information repositories for the Site at the Salem Township Library, 535 W Pike Street, Morrow, Ohio 45152 and the Warren County Administration Building, 406 Justice Drive, Lebanon, Ohio 45036. EPA also posted the RI/FS and Proposed Plan to the EPA Region 5 website at: http://www.epa.gov/region5/sites/peterscartridge/index.htm.

EPA published notices advertising the availability of the RI/FS Report and EPA's Proposed Plan for the Site in the Pulse-Journal, Little Miami/Kings Mills Edition and the Western Star, in Lebanon, Ohio on July 2, 2009.

EPA held a public comment period on its proposed cleanup plan for the Site from July 6, 2009 through August 6, 2009. EPA also held a public meeting to present its Proposed Plan for the Site to a broader community audience on July 15, 2009. At the meeting, representatives from EPA and OEPA answered questions about the contamination at the Site and the cleanup alternatives that were considered.

EPA also used the meeting to solicit a wider cross-section of community input on the reasonably anticipated future land uses of the Site. Approximately 20 people attended the meeting, including representatives from the Little Miami River Group and Hamilton Township.

EPA considered the public comments received during the public meeting and public comment period prior to selecting a final remedy for the Site in the ROD. EPA's responses to the comments received are included in a Responsiveness Summary, which is part of the ROD.

EPA provided additional opportunities for public participation when issuing the ESD. Although there are no requirements to hold a public meeting or formal public comment period when an ESD is issued, EPA and OEPA voluntarily decided to conduct a public availability session to inform the local community of the changes in the original remedy and answer questions. EPA and OEPA chose to involve the local community because of the community's interest in the Site, and held an availability session on February 12, 2015. Approximately 40 people from the surrounding area attended the meeting.

EPA made the ESD available to the public by placing it in the administrative record with other documents supporting the ESD, in the information repositories. EPA also coordinated with OEPA to ensure that a notice summarizing the ESD and explaining EPA's reasons for the remedy changes was published in a local newspaper after the ESD was approved.

EPA published a notice announcing this direct final Notice of Partial Deletion in the Cincinnati Enquirer prior to publishing this deletion in the Federal Register. Documents in the deletion docket which EPA relied on to support the deletion of the FPA from the NPL are available to the public in the information repositories and at http://www.regulations.gov.

Determination That the Criteria for Partial Deletion Have Been Met

The FPA portion of the Peters Cartridge Site meets all of the site completion requirements specified in Office of Solid Waste and Emergency Response (OSWER) Directive 9320.22, Close-Out Procedures for National Priorities List Sites. All cleanup actions and RAOs for the FPA set forth in the 2009 ROD and 2015 ESD have been implemented for all pathways of exposure in the FPA. The selected RAs, RAOs, and associated cleanup levels for the FPA are consistent with EPA policy and guidance. No further Superfund response is necessary to protect human health or the environment in the FPA.

Section 300.425(e) of the NCP states that a Superfund site or a portion of a site may be deleted from the NPL when no further response action is appropriate. EPA, in consultation with the State of Ohio, has determined that all required response actions have been implemented at the FPA portion of the Peters Cartridge Site and that no further response action by the responsible parties is appropriate on this property.

V. Partial Deletion Action

EPA, with concurrence of the State of Ohio through the OEPA, has determined that all appropriate response actions under CERCLA, other than maintenance, monitoring and five-year reviews, have been completed at the FPA. Therefore, EPA is deleting the FPA portion of the Peters Cartridge Site, PINs 16-12-453-004, 16-12-453-005 and 16-12-400-012, from the NPL.

Because EPA considers this action to be noncontroversial and routine, EPA is taking it without prior publication. This action will be effective September 25, 2018 unless EPA receives adverse comments by August 27, 2018. If adverse comments are received within the 30-day public comment period, EPA will publish a timely notice of withdrawal of this direct final Notice of Partial Deletion before its effective date and the partial deletion will not take effect. EPA will prepare a response to comments and continue with the deletion process on the basis of the notice of intent to partially delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: July 17, 2018.
Cathy Stepp,
Regional Administrator, Region 5.

For the reasons set out in this document, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300—[Amended]

2. Table 1 of Appendix B to part 300 is amended by revising the listing under Ohio for “Peters Cartridge Factory” to read as follows:

Appendix B to Part 300—National Priorities List

Table 1—General Superfund Section
State | Site name | City/county | Notes (a)
* * * * * * *
OH | Peters Cartridge Factory | Kings Mills | P
* * * * * * *
(a) * * *
* * * * * * *
P = Sites with partial deletion(s).

* * * * *

[FR Doc. 2018-16123 Filed 7-26-18; 8:45 am]

BILLING CODE 6560-50-P